DEPARTMENT OF JUSTICE

Bureau of Alcohol, Tobacco, Firearms and Explosives

[OMB 1140-NEW]

Agency Information Collection Activities; Proposed eCollection of eComments Requested; Request for Restricted 922(o) Machine Gun (National Firearms Act)—ATF Form 5320.24

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The proposed information collection (IC) is also being published to obtain comments from the public and affected agencies.

DATES: Comments are encouraged and will be accepted for 60 days until June 16, 2023.

FOR FURTHER INFORMATION CONTACT: If you have additional comments regarding the estimated public burden or associated response time, suggestions, or need a copy of the proposed information collection instrument with instructions, or additional information, contact: Connor Brandt, National Firearms Act Division either by mail at 244 Needy Road, Martinsburg, WV 25405, by email at nfaombcomments@atf.gov, or by telephone at 304-616-4500.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): New information collection.

2. The Title of the Form/Collection: Request for Restricted 922(o) Machine Gun (National Firearms Act).

3. The agency form number, if any, and the applicable component of the Department sponsoring the collection:

Form number (if applicable): ATF Form 5320.24.

Component: Bureau of Alcohol, Tobacco, Firearms and Explosives, U.S. Department of Justice.

4. Affected public who will be asked or required to respond, as well as a brief abstract:

Primary: Business or other for-profit, Federal Government, State, local or Tribal Government.

Other (if applicable): Individuals or households, Not-for-profit Institutions, or Farms.

Abstract: The Request for Restricted 922(o) Machine Gun (National Firearms Act) (NFA)—ATF Form 5320.24 must be filed by Federal Firearms Licensees who have paid the special (occupational) tax to import, manufacture, deal in, or transfer an NFA firearm to a similarly qualified licensee. The completed ATF Form 5320.24 will also serve as supporting documentation for the Application for Tax-Exempt Transfer of Firearm and Registration to Special Occupational Taxpayer—ATF Form 3 (5320.3) (ATF Form 3), which must be completed by a law enforcement authority requesting demonstration of 922(o) restricted machineguns.

5. An estimate of the total number of respondents and the amount of time estimated for an average respondent to respond: An estimated 1,850 respondents will respond to this collection once annually, and it will take each respondent approximately 20 minutes to complete their responses.

6. An estimate of the total public burden (in hours) associated with the collection: The estimated annual public burden associated with this collection is 616 hours, which is equal to 1,850 (total respondents) * 1 (# of response per respondent) * .333333 (20 minutes or the time taken to prepare each response).

7. An Explanation of the Change in Estimates: This is a new collection that affects the public burden. There are a total 1,850 responses and respondents to this collection. The total burden hours are 616. However, there is no public cost burden associated with this collection which has electronic submission capability.

If additional information is required contact: John Carlson, Department Clearance Officer, Policy and Planning Staff, Office of the Chief Information Officer, United States Department of Justice, Justice Management Division, Two Constitution Square, 145 N Street NE, Mail Stop 3.E-206, Washington, DC 20530.

Dated: April 11, 2023.
John Carlson,
Department Clearance Officer, Policy and Planning Staff, U.S. Department of Justice.

[FR Doc. 2023-07958 Filed 4-14-23; 8:45 am]

BILLING CODE 4410-FY-P